DEPARTMENT OF THE INTERIOR

Bureau of Land Management

[NV-030-1220-PD; Closure Notice No. NV-030-2001-001]

Emergency Closure of Federal Lands

AGENCY: Bureau of Land Management (BLM).

SUMMARY: Notice is hereby given that certain BLM public lands in Alpine County, CA, west of Foothill Road, which include the mouth of Faye Canyon and Luther Creek, are closed to all motorized vehicles. The recent opening of a Forest Service parking lot and trailhead adjacent to the subject BLM lands has dramatically increased the potential for motorized public access. This temporary closure is necessary to preclude potential adverse effects to soils, vegetation, cultural, wildlife and riparian resources.

EFFECTIVE DATES: This closure goes into effect upon publication in the Federal Register, and will remain in effect until the Manager, Carson City Field Office, determines it is no longer needed.

FOR FURTHER INFORMATION OR TO C0MMENT CONTACT: Arthur Callan, Outdoor Recreation Planner, 5665 Morgan Mill Road, Carson City, Nevada 89701. Telephone (775) 885-6000 or e-mail: acallan@nv.blm.gov.

SUPPLEMENTARY INFORMATION: The lands included in this closure are those public lands within Mt. Diablo Meridian, Sections 26 and 35, T. 12 N., R. 19 E. The authorities for this closure are 43 CFR 8341.2 and 8364.1. Any person failing to comply with the closure order is subject to arrest and fines in accordance with the applicable provisions of 18 USC 3571 and/or imprisonment not to exceed 12 months. This order applies to all motorized vehicles excluding (1) any emergency, law enforcement or agency vehicles while being used for emergency or administrative purposes, and (2) any vehicle whose use is expressly authorized in writing by the Manager, Carson City Field Office.

Dated: December 20, 2000.
John O. Singlaub,
Carson City Field Manager.

[FR Doc. 01-1074 Filed 1-11-01; 8:45 am]

BILLING CODE 4310-HC-M